DEPARTMENT OF TRANSPORTATION

Federal Aviation Administration

Aviation Rulemaking Advisory Committee—New Task (Avionics Systems Harmonization Working Group)

AGENCY: Federal Aviation Administration (FAA), DOT.

ACTION: Notice of a new task assignment for the Aviation Rulemaking Advisory Committee (ARAC) and solicitation of membership applicants.

SUMMARY: The FAA assigned the Aviation Rulemaking Advisory Committee (ARAC) a new task to identify and develop recommendations on low energy alerting requirements to supplement previous work accomplished on low speed alerting in new transport category airplanes. This notice informs the public of the new ARAC activity.

FOR FURTHER INFORMATION CONTACT: Joe Jacobsen, Airplane & Flight Crew Interface Branch, Transport Airplane Directorate, Federal Aviation Administration, 1601 Lind Ave. SW, Renton, Washington 98057; telephone (425) 227-2011, facsimile (425) 227-1149; email joe.jacobsen@faa.gov.

SUPPLEMENTARY INFORMATION:

ARAC Acceptance of Task

At the September 14, 2017, ARAC meeting, the FAA assigned and ARAC accepted this task. ARAC designated the task to the Transport Airplane and Engine (TAE) Subcommittee, which will assign the task to the existing Avionics Systems Harmonization Working Group (ASHWG). The ASHWG will support the ARAC, through the TAE Subcommittee, and will provide advice and recommendations on the assigned task. The TAE Subcommittee will send the recommendation report to the ARAC for review and acceptance. After ARAC accepts the recommendation report, it will submit the recommendation report to the FAA.

Background

The FAA established the ARAC to provide information, advice, and recommendations on aviation related issues that could result in rulemaking to the FAA Administrator, through the Associate Administrator of Aviation Safety.

The FAA previously examined low speed alerting requirements and tasked the ARAC to provide information to develop standards and guidance material for low speed alerting systems. The information from that tasking may result in additional standards that complement existing low speed alerting requirements. However, as a result of the Asiana Flight 214 accident, the FAA needs additional recommendations related to context-dependent low energy safeguards with respect to low speed protection and alerting.

Following the Asiana Flight 214 accident investigation, the National Transportation Safety Board (NTSB) issued the following recommendation to the FAA:

Task a panel of human factors, aviation operations, and aircraft design specialists, such as the Avionics Systems Harmonization Working Group, to develop design requirements for context-dependent low energy alerting systems for airplanes engaged in commercial operations (NTSB Safety Recommendation A-14-043).

The Task

The ASHWG will provide advice and recommendations to the ARAC through the TAE Subcommittee in a report that addresses the following questions relative to new airplane designs. The report should include rationale for the responses.

1. Do you recommend any changes to the existing low speed alerting requirements to provide additional pilot reaction time in cases where the airplane is both slow and close to the ground?

2. Do you recommend any new or revised guidance material to define an acceptable low energy alert?

3. After reviewing airworthiness, safety, cost, and other relevant factors, including recent certification and fleet experience, are there any additional considerations that the FAA should take into account regarding avoidance of low energy conditions?

4. Is coordination necessary with other harmonization working groups (e.g., Human Factors, Flight Test)? If yes, coordinate with that working group and report on that coordination.

5. Develop a report containing recommendations on the findings and results of the tasks explained above.

a. The recommendation report should document both majority and dissenting positions on the findings and the rationale for each position.

b. Any disagreements should be documented, including the rationale for each position and the reasons for the disagreement.

Schedule

ARAC should submit the recommendation report to the FAA for review and acceptance no later than thirty (30) months from the first ASHWG meeting.

Working Group Activity

The ASHWG must comply with the procedures adopted by the ARAC. As part of the procedures, the working group must:

1. Conduct a review and analysis of the assigned tasks and any other related materials or documents.

2. Draft and submit a work plan for completion of the task, including the rationale supporting such a plan, for consideration by the TAE Subcommittee.

3. Provide a status report at each TAE Subcommittee meeting.

4. Draft and submit the recommendation report based on the review and analysis of the assigned tasks.

5. Present the recommendation report at the TAE Subcommittee meeting.

Roles and Responsibilities

The ASHWG comprises technical experts having an interest in the assigned task. A working group member need not be a member representative of the ARAC TAE Subcommittee.

In accordance with the provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government.” (For further information see Lobbying Disclosure Act of 1995 (LDA) as amended, 2 U.S.C 1603, 1604, and 1605.)

If you wish to become a member of the ASHWG, write the person listed under the caption FOR FURTHER INFORMATION CONTACT expressing that desire. Describe your interest in the task and state the expertise you would bring to the working group. The FAA must receive all requests by February 20, 2018. The ARAC, through the TAE Subcommittee, and the FAA will review the requests and advise you whether or not your request is approved.

All members of the ASHWG who wish to participate in this task must actively participate in the working group, attend all meetings, and provide written comments when requested. Members must devote the resources necessary to support the working group in meeting any assigned deadlines. Each member must keep their management and those they may represent advised of working group activities and decisions to ensure the proposed technical solutions do not conflict with the position of those represented. Once the working group has begun deliberations, members will not be added or substituted without the approval of the TAE Subcommittee Chair, the FAA Subcommittee member, and the Working Group Chair.

The Secretary of Transportation determined the formation and use of the ARAC is necessary and in the public interest in connection with the performance of duties imposed on the FAA by law.

Confidential Information

All final work products submitted to ARAC are public documents. Therefore, it should not contain any non-public proprietary, privileged, business, commercial, and other sensitive information (collectively, Confidential Information) that the working group members would not want to be publicly available. With respect to working groups, there may be instances where members will share Commercial Information within the working group for purposes of completing an assigned tasked. Members must not disclose to any third party, or use for any purposes other than the assigned task, any and all Confidential Information disclosed to one party by the other party, without the prior written consent of the party whose Confidential Information is being disclosed. All parties must treat the Confidential Information of the disclosing party as it would treat its own Confidential Information, but in no event shall it use less than a reasonable degree of care. If any Confidential Information is shared with the FAA representative on a working group, it must be properly marked in accordance with the Office of Rulemaking Committee Manual, ARM-001-15.

Issued in Washington, DC, on January 11, 2018.
Lirio Liu,
Designated Federal Officer, Aviation Rulemaking Advisory Committee.

[FR Doc. 2018-00821 Filed 1-17-18; 8:45 am]

BILLING CODE 4910-13-P